DEPARTMENT OF COMMERCE

National Oceanic and Atmospheric Administration

Agency Information Collection Activities; Submission to the Office of Management and Budget (OMB) for Review and Approval; Comment Request; NOAA Marine Debris Program Performance Progress Report

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or BEFORE July 20, 2021.

ADDRESSES: Interested persons are invited to submit written comments to Adrienne Thomas, NOAA PRA Officer, at Adrienne.thomas@noaa.gov. Please reference OMB Control Number 0648-0718 in the subject line of your comments. Do not submit Confidential Business Information or otherwise sensitive or protected information.

FOR FURTHER INFORMATION CONTACT: Requests for additional information or specific questions related to collection activities should be directed to Tom Barry, Management and Program Analyst, NOAA/NOS/ORR, 202-870-2863 or tom.barry@noaa.gov.

SUPPLEMENTARY INFORMATION:

I. Abstract

This is a request for extension of a currently approved information collection.

The NOAA Marine Debris Program (MDP) operates within the Office of Response and Restoration as part of NOAA's National Ocean Service. The MDP supports national and international efforts to research, prevent, and reduce the impacts of marine debris. The MDP is the lead program within NOAA that coordinates and supports activities, both within the bureau and with other federal agencies, to address marine debris and its impacts. In addition to inter-agency coordination, the MDP uses partnerships with state and local agencies, tribes, non-governmental organizations, academia, and industry to investigate and solve the problems that stem from marine debris through research, prevention, and reduction activities, in order to protect and conserve our nation's marine environment and ensure navigation safety.

The Marine Debris Research, Prevention, and Reduction Act (33 U.S.C. 1951 et seq.) as amended by the Marine Debris Act Amendments of 2012 (Pub. L. 112-213, Title VI, Sec. 603, 126 Stat. 1576, December 20, 2012), and the Save our Seas Act and Save our Seas 2.0 Act in 2018 and 2020, respectively. The Save our Seas 2.0 Act was signed into law on December 18, 2020 (Pub. L. 116-224). These authorities outline a variety of different program components for the MDP to undertake in addressing the marine debris issue: Marine debris mapping, identification, impact assessment, research, removal, and prevention. To address these components, the Marine Debris Act and the subsequent amendments listed above authorize the MDP to establish several competitive grant programs on marine debris research, prevention, and removal to support non-federal entities throughout the coastal United States and territories with financial and technical assistance. Other supplemental appropriations, such as the Bipartisan Budget Act of 2018 and the United States-Mexico-Canada Agreement (USMCA) Supplemental Appropriations Act of 2019 (Pub. L. 116-113, Title IX), have provided authority to the MDP for marine debris work in dealing with hurricane recovery and international transboundary marine debris issues as well.

The terms and conditions of the financial assistance awards made through these grant programs require regular progress reporting and communication of project accomplishments to MDP. Progress reports contain information related to, among other things, the overall short and long-term goals of the project, project methods and monitoring techniques, actual accomplishments (such as tons of debris removed from an ecosystem, numbers of volunteers participating in a cleanup project, the number of educational interactions with the public, etc.), status of approved activities, challenges or potential roadblocks to future progress, lessons learned, and budget expenditures. This information collection enables MDP to monitor and evaluate the activities supported by federal funds to ensure accountability to the public and to ensure that funds are used in a manner consistent with the purpose for which they were appropriated. It also ensures that reported information is standardized in such a way that allows it to be meaningfully synthesized across a diverse set of projects and project types. MDP uses the information collected in a variety of ways to communicate with federal and non-federal partners and stakeholders on individual project and general program accomplishments.

II. Method of Collection

Respondents to this collection may choose to submit electronically or in paper format.

III. Data

OMB Control Number: 0648-0718.

Form Number(s): None.

Type of Review: Regular submission (extension of an approved information collection).

Affected Public: Business or other for-profit, not-for-profit institutions, state, local or tribal government.

Estimated Number of Respondents: 70.

Estimated Time per Response: 10 Hours (semi-annually).

Estimated Total Annual Burden Hours: 1,400.

Estimated Total Annual Cost to Public: $0.

Respondent's Obligation: Mandatory.

Legal Authority: Marine Debris Research, Prevention, and Reduction Act (33 U.S.C. 1951 et seq.) as amended by the Marine Debris Act Amendments of 2012 (Pub. L. 112-213, Title VI, Sec. 603, 126 Stat. 1576, December 20, 2012); Save our Seas Act and Save our Seas 2.0 Act (Pub. L. 116-224).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-10795 Filed 5-20-21; 8:45 am]

BILLING CODE 3510-JE-P